DEPARTMENT OF COMMERCE

Foreign-Trade Zones Board

[B-62-2022]

Foreign-Trade Zone (FTZ) 163; Authorization of Limited Production Activity; Global Manufacturing LLC; (Mattresses and Box Springs); Ponce, Puerto Rico

On December 8, 2022, the CODEZOL, C.D., grantee of FTZ 163, submitted a notification of proposed production activity to the FTZ Board on behalf of Global Manufacturing LLC, within FTZ 163, in Ponce, Puerto Rico.

The notification was processed in accordance with the regulations of the FTZ Board (15 CFR part 400), including notice in the Federal Register inviting public comment (87 FR 78044-78045, December 21, 2022). On April 7, 2023, the applicant was notified of the FTZ Board's decision that further review of part of the proposed activity is warranted. The FTZ Board authorized the production activity described in the notification on a limited basis, subject to the FTZ Act and the Board's regulations, including section 400.14, and further subject to a restriction requiring that the following foreign status components be admitted to the zone in privileged foreign status (19 CFR 146.41): (1) polyurethane foam and memory foam, in rolls and pre-cut; (2) woven fabrics of 80% polyester and 20% polypropylene, in rolls and pre-cut; (3) 100% polyester non-woven felt pad sheets; and, (4) knitted fabrics in rolls and pre-cut composed of (98.5% polyester and 1.5% elastane/100% polyester/96% polyester and 4% metallic).

Dated: April 7, 2023.
Elizabeth Whiteman,
Acting Executive Secretary.

[FR Doc. 2023-07706 Filed 4-11-23; 8:45 am]

BILLING CODE 3510-DS-P